DEPARTMENT OF AGRICULTURE

Rural Utilities Service

[Docket No. RUS-20-ELECTRIC-0048]

Financial Support for Transmission and Distribution Lines To Pump Stations 15, 16, 17, 18, and 19 in Connection With the TransCanada Keystone XL Pipeline

AGENCY: Rural Utilities Service, USDA.

ACTION: Notice of Availability of a Record of Decision.

SUMMARY: In accordance with the National Environmental Policy Act of 1969, the Rural Utilities Service (RUS) has prepared a Record of Decision. This Record of Decision (ROD) is for the construction of transmission and distribution lines and associated facilities to service five pump stations for the TransCanada XL Keystone Pipeline in South Dakota. By this notice, the RUS is announcing the availability of the Record of Decision.

DATES: The Administrator of the Rural Utilities Service signed the Record of Decision on November 13, 2020.

ADDRESSES: For copies of the ROD or for further information, contact: Dennis Rankin, email Dennis.Rankin@usda.gov. The ROD is available for review online at https: https://www.rd.usda.gov/resources/environmental-studies.

SUPPLEMENTARY INFORMATION: TransCanada Keystone XL Pipeline LP (Keystone) filed its original Presidential Permit application with the Department of State in 2008. An Environmental Impact Statement for the proposed pipeline project was finalized in August 2011 (2011 EIS). The U.S. Department of State served as the Lead Federal Agency. In April 2012, Keystone proposed a new pipeline route in Nebraska to avoid the Sand Hills region of Nebraska, and in May 2012 applied for a second Presidential Permit. The Department of State evaluated the new proposed pipeline route as well as two alternative routes in its 2014 Supplemental Environmental Impact Statement (SEIS). The proposed alternative of the 2014 SEIS encompassed RUS's action area. The Secretary of State issued the Presidential Permit in March 2017.

In 2019, the Department of State supplemented the 2014 SEIS with the 2019 SEIS to evaluate impacts of the proposed Mainline Alternative Route in Nebraska, a route modification to the 2014 SEIS preferred alternative. The 2019 SEIS also updated greenhouse gas and climate change analysis, revised the methodology for the accidental release analysis, updated the market analysis, evaluated new information related to cultural resources, and included an impact analysis specifically related to electrical power infrastructure. RUS, along with The U.S. Department of the Interior's Bureau of Land Management, U.S. Army Corps of Engineers, and the Western Area Power Administration (WAPA), has served as a Cooperating Agency in the 2011 EIS and the 2014 and 2019 SEISs.

RUS has considered a proposal from Grand Electric Cooperative, Inc. to provide distribution and transmission lines to supply power to pump stations 15, 16, 17, and a proposal from West Central Electric Cooperative, Inc. to provide distribution and transmission lines to supply power to pump stations 18 and 19. Pump stations 15-19 are located entirely within the State of South Dakota. The substations will be built by the cooperatives and/or WAPA and financed by Keystone. WAPA will provide for the interconnections for the transmission facilities for Pump Stations7, 18 and 19.

RUS has adopted the 2014 and 2019 SEISs, and the Record of Decision to support its financing decisions for transmission and distribution lines to supply pump stations in South Dakota. RUS's actions related to providing financing for transmission and distribution for Pump Stations 15-19, were evaluated as connected actions related to TransCanada Keystone Pipeline, LP to proposal construct, operate, maintain, and (eventually) decommission the Keystone XL Pipeline in South Dakota. The Record of Decision was signed on November 13, 2020.

Chad Rupe,
Administrator, Rural Utilities Service.

[FR Doc. 2020-28334 Filed 12-22-20; 8:45 am]

BILLING CODE 3410-15-P